DEPARTMENT OF COMMERCE

Census Bureau

Agency Information Collection Activities; Submission to the Office of Management and Budget (OMB) for Review and Approval; Comment Request; Vehicle Inventory and Use Survey

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed reinstatement, with change, of the Vehicle Inventory and Use Survey, prior to the submission of the information collection request (ICR) to OMB for approval.

DATES: To ensure consideration, comments regarding this proposed information collection must be received on or before May 14, 2021.

ADDRESSES: Interested persons are invited to submit written comments by email to Thomas.J.Smith@census.gov. Please reference Vehicle Inventory and Use Survey in the subject line of your comments. You may also submit comments, identified by Docket Number USBC-2021-0008, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Kelly Holder, VIUS Branch Chief, (301) 763-3462, Kelly.A.Holder@census.gov.

SUPPLEMENTARY INFORMATION:

I. Abstract

The Census Bureau plans to conduct a reinstated Vehicle Inventory and Use Survey (VIUS) in 2022. VIUS was the principal data source on the physical and operational characteristics of the nation's truck population from 1963 through 2002 and was conducted every five years in conjunction with the Quinquennial Economic Census. The survey was discontinued prior to the 2007 survey due to budget constraints. The discontinuation of the survey left a significant void in the U.S. Department of Transportation's knowledge of the U.S. truck fleet. The Bureau of Transportation Statistics is restoring the VIUS with its partners, the Federal Highway Administration and the U.S. Department of Energy. The U.S. Census Bureau will collect VIUS under the mandatory requirements of Title 13, Sections 131 and 182, of the U.S.C. as in previous economic censuses.

VIUS utilizes a sample of Vehicle Identification Numbers (VINs) for trucks registered in the 50 states and District of Columbia. The sample includes both personally-owned and commercially-owned trucks. VIUS excludes trucks owned by federal, state, and local governments; ambulances; buses; motor homes; farm tractors; unpowered trailer units; and passenger cars.

Since the last VIUS was conducted nearly 20 years ago, some of the questionnaire content required updates. In particular, questions related to vehicle technology have been modified to reflect more recent safety and fuel economy features. Modified content includes emerging technologies such as driver assistance systems, collision warning and collision intervention features, driving control, and parking assistance features. New questions were also added based on stakeholder input collected during the years since the 2002 VIUS. This new content includes topics such as towing capacity, maintenance costs, time spent idling, use of overweight permits, and mileage driven while cubed out or weighed out.

VIUS data are of considerable value to government, business, academia, and the general public. Data on the number and types of vehicles and how they are used are important in studying the future growth of transportation and are needed in calculating fees and cost allocations among highway users. The data also are important in evaluating safety risks to highway travelers and in assessing the energy efficiency and environmental impact of the nation's truck fleet.

II. Method of Collection

The Vehicle Inventory and Use Survey will use two modes of data collection: Electronic instrument and paper questionnaire. All respondents will receive an initial letter with instructions to log into the electronic instrument. Respondents will be encouraged to use the electronic instrument method, however, a paper questionnaire will be sent as part of the non-response follow-up operation.

Data are collected via two questionnaires based on truck type, one for light trucks (pickups, SUVs, minivans) and one for heavy trucks (including truck tractors). Content differs somewhat between the two forms.

III. Data

OMB Control Number: 0607-0892.

Form Number(s): TC-9501 (Light Trucks) and TC-9502 (Heavy Trucks).

Type of Review: Regular submission, Request for a Reinstatement, with Change, of a Previously Approved Collection.

Affected Public: Individuals and businesses.

Estimated Number of Respondents: 150,000.

Estimated Time per Response: 65 minutes per vehicle.

Estimated Total Annual Burden Hours: 162,500.

Estimated Total Annual Cost to Public: $0 (This is not the cost of respondents' time, but the indirect costs respondents may incur for such things as purchases of specialized software or hardware needed to report, or expenditures for accounting or records maintenance services required specifically by the collection.)

Respondent's Obligation: Mandatory.

Legal Authority: Title 13, United States Code, Sections 131, 182, 224, and 225.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-05231 Filed 3-12-21; 8:45 am]

BILLING CODE 3510-07-P